DEPARTMENT OF COMMERCE

International Trade Administration

[A-583-837]

Polyethylene Terephthalate Film, Sheet, and Strip from Taiwan: Preliminary Results of Antidumping Duty Administrative Review and Preliminary Determination of No Shipments; 2017-2018

AGENCY: Enforcement and Compliance, International Trade Administration, U.S. Department of Commerce

SUMMARY: The Department of Commerce (Commerce) preliminarily finds that exporters of polyethylene terephthalate film, sheet, and strip (PET film) from Taiwan did not sell subject merchandise at prices below normal value (NV). Interested parties are invited to comment on these preliminary results.

DATES: Applicable September 12, 2019.

FOR FURTHER INFORMATION CONTACT: Jacqueline Arrowsmith at (202) 482-5255, AD/CVD Operations, Office VII, Enforcement and Compliance, International Trade Administration, U.S. Department of Commerce, 1401 Constitution Avenue NW, Washington, DC 20230.

SUPPLEMENTARY INFORMATION:

Background

On July 3, 2018, Commerce published in the Federal Register a notice of opportunity to request an administrative review of the AD Order on PET film from Taiwan.¹ Nan Ya Plastics Corporation (Nan Ya) self-requested an administrative review of its sales on July 23, 2018.² On July 27, 2018, and July 31, 2018, Polyplex USA LLC (Polyplex USA), a domestic producer and interested party, and the petitioners,³ each requested reviews of Nan Ya and Shinkong Materials Technology Corporation (SMTC).⁴ On September 10, 2018, in accordance with 19 CFR 351.221(c)(1)(i), Commerce published a notice of initiation of administrative review of the AD Order on PET film from Taiwan.⁵

¹ See Antidumping or Countervailing Duty Order, Finding or Suspended Investigation; Opportunity to Request Administrative Review, 83 FR 31121 (July 3, 2018) (Order).

² See Nan Ya's Letter, “Polyethylene Terephthalate (PET) Film from Taiwan,” dated July 23, 2018.

³ The petitioners are DuPont Teijin Films, Mitsubishi Polyester Film, Inc., and SKC, Inc.

⁴ See Polyplex USA's Letter, “Polyethylene Terephthalate (PET) Film, Sheet, and Strip from Taiwan: Request for Antidumping Duty Administrative Review,” dated July 27, 2018; see also the Petitioners' Letter, “Polyethylene Terephthalate (PET) Film, Sheet, and Strip from Taiwan: Request for Antidumping Duty Administrative Review,” dated July 31, 2018.

⁵ See Initiation of Antidumping and Countervailing Duty Administrative Reviews, 83 FR 45596 (September 10, 2018) (Initiation Notice).

On January 28, 2019, Commerce issued a memorandum tolling all deadlines for this administrative review by 40 days.⁶ On May 8, 2019, in accordance with section 751(a)(3)(A) of the Tariff Act of 1930, as amended (the Act) and 19 CFR 351.213(h)(2), Commerce extended the due date for the preliminary results by 50 days (from May 13, 2019, to July 2, 2019).⁷ On June 24, 2019, in accordance with section 751(a)(3)(A) of the Act and 19 CFR 51.213(h)(2),Commerce extended the due date for the preliminary results by an additional 66 days to September 6, 2019.⁸

⁶ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁷ See Memorandum, “Polyethylene Terephthalate (PET) Film, Sheet and Strip from Taiwan: Extension of Deadline for Preliminary Results of Antidumping Duty Administrative Review—2017-2018,” dated May 8, 2019.

⁸ See Memorandum, “Polyethylene Terephthalate (PET) Film from Taiwan: Extension of Deadline for Preliminary Results of Antidumping Duty Administrative Review (2017-2018),” dated June 24, 2019.

Scope of the Order

The merchandise subject to the Order is PET film⁹ and is currently classifiable under subheading 3920.62.00.90 of the Harmonized Tariff Schedule of the United States.¹⁰ A full description of the scope of the Order is contained in the accompanying Preliminary Decision Memorandum.

⁹ See Notice of Amended Final Antidumping Duty Determination of Sales at Less Than Fair Value and Antidumping Duty Order: Polyethylene Terephthalate Film, Sheet, and Strip (PET Film) from Taiwan, 67 FR 44174 (July 1, 2002) (Order).

¹⁰ See Memorandum, “Decision Memorandum for Preliminary Results of Antidumping Duty Administrative Review and Preliminary Determination of No Shipments: Polyethylene Terephthalate Film, Sheet, and Strip from Taiwan; 2017-2018” (Preliminary Decision Memorandum), which is hereby adopted by this notice.

Preliminary Determination of No Shipments

Based on our analysis of U.S. Customs and Border Protection (CBP) information and information provided by SMTC and its affiliate, Shinkong Synthetic Fibers Corp. (SSFC), we preliminarily determine that SMTC had no shipments of the subject merchandise during the POR.

Methodology

Commerce is conducting this review in accordance with section 751(a)(2) of the Tariff Act of 1930, as amended (the Act). Export price is calculated in accordance with section 772 of the Act. NV is calculated in accordance with section 773 of the Act.

For a full description of the methodology underlying our conclusions, see the Preliminary Decision Memorandum. A list of topics included in the Preliminary Decision Memorandum is included as an Appendix to this notice. The Preliminary Decision Memorandum is a public document and is on file electronically via Enforcement and Compliance's Antidumping and Countervailing Duty Centralized Electronic Service System (ACCESS). ACCESS is available to registered users at http://access.trade.gov and is available to all parties in the Central Records Unit in Room B8024 of the main Commerce building. In addition, a complete version of the Preliminary Decision Memorandum can be accessed directly on the internet at http://enforcement.trade.gov/frn/index.html. The signed and electronic versions of the Preliminary Decision Memorandum are identical in content.

Preliminary Results of Review

As a result of this review, we preliminarily determine the following weighted-average dumping margin for the period July 1, 2017, through June 30, 2018.

Manufacturer/exporter | Weighted- average dumping margin (percent)
Nan Ya Plastics Corporation | 0.00

Disclosure and Public Comment

We intend to disclose the calculations performed to parties in this proceeding within five days after public announcement of the preliminary results in accordance with 19 CFR 351.224(b). Pursuant to 19 CFR 351.309(c), interested parties may submit case briefs no later than 30 days after the date of publication of this notice. Rebuttal briefs, limited to issues raised in the case briefs, may be filed no later than five days after the date for filing case briefs.¹¹ Parties who submit case briefs or rebuttal briefs in this proceeding are encouraged to submit with each argument: (1) A statement of the issue; (2) a brief summary of the argument; and (3) a table of authorities.¹²

¹¹ See 19 CFR 351.309(d).

¹² See 19 CFR 351.303 (for general filing requirements).

Pursuant to 19 CFR 351.310(c), interested parties who wish to request a hearing, must submit a written request to the Assistant Secretary for Enforcement and Compliance, filed electronically via ACCESS. An electronically filed document must be received successfully in its entirety by Commerce's electronic records system, ACCESS, by 5 p.m. Eastern Time within 30 days after the date of publication of this notice. Requests should contain: (1) The party's name, address and telephone number; (2) the number of participants; and (3) a list of issues to be discussed. Issues raised in the hearing will be limited to those raised in the respective case briefs. Commerce intends to issue the final results of this administrative review, including the results of its analysis of the issues raised in any written briefs, not later than 120 days after the date of publication of this notice, unless extended, pursuant to section 751(a)(3)(A) of the Act.

Assessment Rates

Upon issuance of the final results in this administrative review, Commerce shall determine and U.S. Customs and Border Protection (CBP) shall assess antidumping duties on all appropriate entries in accordance with 19 CFR 351.212(b). If the weighted-average dumping margin for Nan Ya is not zero or de minimis (i.e., less than 0.5 percent) in the final results of this review, we will calculate the importer-specific ad valorem assessment rates on the basis of the ratio of the total amount of antidumping duties calculated for each importer's examined sales and the total entered value of the sales in accordance with 19 CFR 351.212(b)(1).

Where the respondent's weighted-average dumping margin is zero or de minimis, or an importer-specific assessment rate is zero or de minimis, we will instruct CBP to liquidate the appropriate entries without regard to antidumping duties. The final results of this review shall be the basis for the assessment of antidumping duties on entries of merchandise covered by the final results of this review and for future deposits of estimated duties, where applicable.

For entries of subject merchandise during the POR produced by the respondent for which it did not know that its merchandise was destined for the United States, we will instruct CBP to liquidate unreviewed entries at the all-others rate if there is no rate for the intermediate company(ies) involved in the transaction. We intend to issue instructions to CBP 15 days after publication of the final results of this review.

Cash Deposit Requirements

The following deposit requirements will be effective for all shipments of PET film from Taiwan entered, or withdrawn from warehouse, for consumption on or after the date of publication of the final results of this administrative review, as provided for by section 751(a)(2)(C) of the Act: (1) The cash deposit rate for the company under review will be the rate established in the final results of this review (except, if the rate is zero or de minimis, no cash deposit will be required); (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the merchandise; and (4) the cash deposit rate for all other manufacturers or exporters is 2.40 percent.¹³ These cash deposit requirements, when imposed, shall remain in effect until further notice.

¹³ See Order.

Notification to Interested Parties

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act and 19 CFR 351.213(h)(1).

Dated: September 6, 2019.
Christian Marsh,
Deputy Assistant Secretary for Enforcement and Compliance.

Appendix—List of Topics Discussed in the Preliminary Decision Memorandum

I. Summary

II. Background

III. Scope of the Order

IV. Preliminary Determination of No Shipments for SMTC

V. Comparisons to Normal Value

VI. Date of Sale

VII. Export Price

VIII. Normal Value

IX. Currency Conversion

X. Recommendation

[FR Doc. 2019-19792 Filed 9-11-19; 8:45 am]

BILLING CODE 3510-DS-P